DEPARTMENT OF HEALTH AND HUMAN SERVICES

Administration for Children and Families

Proposed Information Collection Activity; Comment Request

Proposed Projects

Title: Performance Progress Report.

OMB No.: 0970-0334.

Description: The Performance Progress Report (SF-PPR) is a set of uniform reporting formats used for standard reporting on performance under grants and cooperative agreements.

In addition to allowing for uniformity of information collection, these formats will support systematic electronic collection and submission of information. These formats will provide interim and final performance progress information as required by OMB Circulars A-102 and 2 CFR 215.

The SF-PPR consists of a cover page and six optional formats. The Cover Page contains identifying data elements and a section for a performance narrative. Use of the cover page is required, and programs may require their respondents to submit only this page and/or attach a performance narrative. Alternatively, programs may opt to require the cover page and one or more of the six optional formats: Performance Measures, Program Indicators, Benchmark Evaluations, Table of Activity Results, Activity-Based Expenditures, and Program/Project Management.

The SF-PPR has been successfully piloted at the Administration for Children and Families (ACF). All discretionary programs (starting with FY09 awards) are to submit the SF-PPR to the ACF Office of Grants Management. Program offices with expiring data collections are required to migrate to the SF-PPR format. Additionally, a number of program offices have voluntarily migrated their collections to the SF-PPR format in anticipation of government-wide standardization. ACF, with its Online Data Collection tool (OLDC), has provided program offices with the capability to collect SF-PPR data electronically.

ACF and the Grants Center of Excellence (CoE) is sponsoring this collection on behalf of the Grants Policy Committee, other Federal grant-making agencies, and the CoE partners.

CoE Partners are Defined as:

Corporation for National and Community Service.

Denali Commission.

Department of State.

DHHS/Administration on Aging.

DHHS/Centers for Medicare Services.

DHHS/Health Research and Services Administration.

DHHS/Indian Health Services.

DHHS/Office of Public Health Services.

DOT/Federal Air Administration.

DOT/Federal Highway Administration.

DOT/Federal Motor Carrier Safety Administration.

DOT/Federal Railroad Administration.

DOT/Federal Transport Administration.

DOT/Pipeline and Hazardous Materials Safety Administration.

Environmental Protection Agency.

Institute of Museum and Library Services.

Social Security Administration.

Department of the Treasury.

USDA/Food Safety and Inspection Service.

Veterans Administration.

The revised burden estimates are based on grant projects and awards for ACF and its CoE partners for FY2008 as reported by internal ACF reporting systems and USASpending.gov.

Respondents: Federal government grantees.

Annual Burden Estimates
Instrument | Number of respondents | Number of responses per respondent | Average burden hours per response | Total burden hours
Performance progress report (SF-PPR) | 131,281 | 1 | 0.42 | 55,138.02
Cover Page Continuation (SF-PPR-2) | 86 | 1 | 0.33 | 28.38
Performance Measures (SF-PPR-A) | 430 | 1 | 0.75 | 322.50
Program Indicators (SF-PPR-B) | 8,961 | 1 | 3 | 26,883
Benchmark Evaluations (SF-PPR-C) | 248 | 1 | 1.50 | 372
Table of Activity Results (SF-PPR-D) | 4,238 | 1 | 0.75 | 3,178.50
Activity Based Expenditures (SF-PPR-E) | 2,616 | 1 | 0.33 | 863.28
Program/Project Management (SF-PPR-F) | 45 | 1 | 0.50 | 22.50
Estimated Total Annual Burden Hours: 86,808.18

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information will have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 25, 2009.
Janean Chambers,
Reports Clearance Officer.

[FR Doc. E9-7021 Filed 3-27-09; 8:45 am]

BILLING CODE 4184-01-P